DEPARTMENT OF HEALTH AND HUMAN SERVICES

National Institutes of Health

National Cancer Institute; Amended Notice of Meeting

Notice is hereby given of a change in the meeting of the National Cancer Institute Special Emphasis Panel, February 27, 2020, 11:00 a.m. to 3:00 p.m., National Cancer Institute, Shady Grove, 9609 Medical Center Drive, Room 7W108, Rockville, MD 20850 which was published in the Federal Register on December 30, 2019, 84 FR 71964.

This meeting notice is amended to change the meeting start time from 11:00 a.m. to 10:00 a.m. on February 27, 2020. The meeting is closed to the public.

Dated: February 3, 2020.
Melanie J. Pantoja,
Program Analyst, Office of Federal Advisory Committee Policy.

[FR Doc. 2020-02401 Filed 2-6-20; 8:45 am]

BILLING CODE 4140-01-P